DEPARTMENT OF ENERGY

Federal Energy Regulatory Commission

Combined Notice of Filings #1

Take notice that the Commission received the following electric rate filings:

Docket Numbers: ER10-2974-001.

Applicants: Just Energy (U.S.) Corp.

Description: Compliance filing: JEUS Notice of Change in Status to be effective N/A.

Filed Date: 1/26/23.

Accession Number: 20230126-5067.

Comment Date: 5 p.m. ET 2/16/23.

Docket Numbers: ER13-1081-001.

Applicants: Just Energy New York Corp.

Description: Compliance filing: JENY Notice of Change in Status and Revisions to MBR Tariff to be effective 1/27/2023.

Filed Date: 1/26/23.

Accession Number: 20230126-5070.

Comment Date: 5 p.m. ET 2/16/23.

Docket Numbers: ER13-1104-001.

Applicants: Just Energy Illinois Corp.

Description: Compliance filing: JEI Notice of Change in Status and Revisions to MBR Tariff to be effective 1/27/2023.

Filed Date: 1/26/23.

Accession Number: 20230126-5069.

Comment Date: 5 p.m. ET 2/16/23.

Docket Numbers: ER17-1378-003.

Applicants: Commerce Energy, Inc.

Description: Compliance filing: Just Energy Solutions Inc. submits tariff filing per 35: JES Notice of Change in Status to be effective N/A.

Filed Date: 1/26/23.

Accession Number: 20230126-5073.

Comment Date: 5 p.m. ET 2/16/23.

Docket Numbers: ER17-2427-001.

Applicants: Hudson Energy Services, LLC.

Description: Compliance filing: HES Notice of Change in Status and Revisions to MBR Tariff to be effective 1/27/2023.

Filed Date: 1/26/23.

Accession Number: 20230126-5068.

Comment Date: 5 p.m. ET 2/16/23.

Docket Numbers: ER17-2428-001.

Applicants: Just Energy Pennsylvania Corp.

Description: Compliance filing: JEP Notice of Change in Status and Revisions to MBR Tariff to be effective 1/27/2023.

Filed Date: 1/26/23.

Accession Number: 20230126-5071.

Comment Date: 5 p.m. ET 2/16/23.

Docket Numbers: ER17-2429-001.

Applicants: Just Energy Texas I Corp.

Description: Compliance filing: JET Notice of Change in Status and Revisions to MBR Tariff to be effective 1/27/2023.

Filed Date: 1/26/23.

Accession Number: 20230126-5072.

Comment Date: 5 p.m. ET 2/16/23.

Docket Numbers: ER19-1575-008; ER10-2488-025; ER10-3050-011; ER10-3053-011; ER13-1586-020; ER14-2871-019; ER15-463-018; ER15-621-018; ER15-622-018; ER16-72-014; ER16-182-014; ER16-902-011; ER17-47-011; ER17-48-012; ER18-47-011; ER18-2240-007; ER18-2241-007; ER19-426-007; ER19-427-007; ER19-1660-007; ER19-1662-007; ER19-1667-007; ER20-71-007; ER20-72-007; ER20-75-007; ER20-76-009; ER20-77-007; ER20-79-007; ER21-1368-003; ER21-2782-003; ER22-149-003; ER22-1439-004; ER22-1440-004; ER22-1441-004; ER22-1442-002.

Applicants: EdSan 1B Group 3, LLC, EdSan 1B Group 2, LLC, EdSan 1B Group 1 Sanborn, LLC, EdSan 1B Group 1 Edwards, LLC, Sagebrush Line, LLC, Sagebrush ESS, LLC, Valley Center ESS, LLC, Voyager Wind IV Expansion, LLC, Painted Hills Wind Holdings, LLC, Tehachapi Plains Wind, LLC, Oasis Alta, LLC, Coachella Wind Holdings, LLC, Coachella Hills Wind, LLC, Terra-Gen VG Wind, LLC, Mojave 16/17/18 LLC, Mojave 3/4/5 LLC, LUZ Solar Partners IX, Ltd., LUZ Solar Partners VIII, Ltd., Garnet Wind, LLC, Yavi Energy, LLC, Voyager Wind II, LLC, Terra-Gen Mojave Windfarms, LLC, DifWind Farms LTD VI, Voyager Wind I, LLC, Cameron Ridge II, LLC, San Gorgonio Westwinds II—Windustries, LLC, Ridgetop Energy, LLC, Pacific Crest Power, LLC, San Gorgonio Westwinds II, LLC, Cameron Ridge, LLC, TGP Energy Management, LLC, Whitewater Hill Wind Partners, LLC, Cabazon Wind Partners, LLC, Oasis Power Partners, LLC, Alta Oak Realty, LLC.

Description: Notice of Non-Material Change in Status of Alta Oak Realty, LLC, et al.

Filed Date: 1/24/23.

Accession Number: 20230124-5168.

Comment Date: 5 p.m. ET 2/14/23.

Docket Numbers: ER22-745-000.

Applicants: Cove Mountain Solar, LLC.

Description: Refund Report: Cove Mountain Solar Refund Report Under docket ER22-745 to be effective N/A.

Filed Date: 1/26/23.

Accession Number: 20230126-5020.

Comment Date: 5 p.m. ET 2/16/23.

Docket Numbers: ER22-746-000.

Applicants: Cove Mountain Solar 2, LLC.

Description: Refund Report: Cove Mtn Solar 2 Refund Report Under Docket ER22-746-000 to be effective N/A.

Filed Date: 1/26/23.

Accession Number: 20230126-5023.

Comment Date: 5 p.m. ET 2/16/23.

Docket Numbers: ER22-2044-002.

Applicants: Just Energy Limited.

Description: Compliance filing: JEL Notice of Change in Status and Revisions to MBR Tariff to be effective 1/27/2023.

Filed Date: 1/26/23.

Accession Number: 20230126-5074.

Comment Date: 5 p.m. ET 2/16/23.

Docket Numbers: ER22-2556-001.

Applicants: Rainbow Energy Marketing Corporation.

Description: Compliance filing: Rainbow Energy Marketing Corp Amended Change in Status to be effective 7/30/2022.

Filed Date: 1/26/23.

Accession Number: 20230126-5103.

Comment Date: 5 p.m. ET 2/16/23.

Docket Numbers: ER22-2736-001.

Applicants: Moss Landing Energy Storage 3, LLC.

Description: Compliance filing: MLES3 Notice of Change in Status and Revisions to MBR Tariff to be effective 1/27/2023.

Filed Date: 1/26/23.

Accession Number: 20230126-5047.

Comment Date: 5 p.m. ET 2/16/23.

Docket Numbers: ER23-317-001.

Applicants: Riverstart Solar Park LLC.

Description: Tariff Amendment: Response to Deficiency Letter Under Docket ER23-317 to be effective 11/2/2022.

Filed Date: 1/26/23.

Accession Number: 20230126-5080.

Comment Date: 5 p.m. ET 2/16/23.

Docket Numbers: ER23-417-001.

Applicants: Public Service Company of Colorado.

Description: Tariff Amendment: 2023-01-26 Response to Deficiency Letter—ER23-417-000 to be effective 11/12/2022.

Filed Date: 1/26/23.

Accession Number: 20230126-5093.

Comment Date: 5 p.m. ET 2/16/23.

Docket Numbers: ER23-551-001.

Applicants: Arizona Public Service Company.

Description: Tariff Amendment: Rate Schedule No. 314, Amendment No. 1 to be effective 2/22/2023.

Filed Date: 1/26/23.

Accession Number: 20230126-5105.

Comment Date: 5 p.m. ET 2/6/23.

Docket Numbers: ER23-861-000.

Applicants: California Independent System Operator Corporation.

Description: § 205(d) Rate Filing: 2023-01-17 Revision to TCA—Adding Citizens S-Line Transmission to be effective 4/15/2023.

Filed Date: 1/17/23.

Accession Number: 20230117-5226.

Comment Date: 5 p.m. ET 2/7/23.

Docket Numbers: ER23-919-001.

Applicants: Tampa Electric Company.

Description: Tariff Amendment: Amended Section 205—OATT Administrator Contact Information to be effective 2/1/2023.

Filed Date: 1/26/23.

Accession Number: 20230126-5083.

Comment Date: 5 p.m. ET 2/16/23.

Docket Numbers: ER23-928-000.

Applicants: The Empire District Electric Company.

Description: Request for Waiver, et al. of The Empire District Electric Company.

Filed Date: 1/23/23.

Accession Number: 20230123-5196.

Comment Date: 5 p.m. ET 2/13/23.

Docket Numbers: ER23-933-000.

Applicants: Idaho Power Company.

Description: § 205(d) Rate Filing: Revisions to Attachment M Section 3—Interconnection Requests to be effective 3/24/2023.

Filed Date: 1/26/23.

Accession Number: 20230126-5001.

Comment Date: 5 p.m. ET 2/16/23.

Docket Numbers: ER23-934-000.

Applicants: PJM Interconnection, L.L.C.

Description: § 205(d) Rate Filing: Amendment to WMPA, Service Agreement No. 4825; Queue No. AC2-168/AD1-135 to be effective 12/31/9998.

Filed Date: 1/26/23.

Accession Number: 20230126-5013.

Comment Date: 5 p.m. ET 2/16/23.

Docket Numbers: ER23-935-000.

Applicants: Midcontinent Independent System Operator, Inc.

Description: § 205(d) Rate Filing: 2023-01-26_SA 3975 Union Electric-Winfield Solar I FSA (J1268) to be effective 3/28/2023.

Filed Date: 1/26/23.

Accession Number: 20230126-5024.

Comment Date: 5 p.m. ET 2/16/23.

Docket Numbers: ER23-936-000.

Applicants: Southwest Power Pool, Inc.

Description: § 205(d) Rate Filing: 2562R12 Kansas Municipal Energy Agency NITSA and NOA to be effective 1/1/2023.

Filed Date: 1/26/23.

Accession Number: 20230126-5034.

Comment Date: 5 p.m. ET 2/16/23.

Docket Numbers: ER23-937-000.

Applicants: Chevelon Butte RE LLC.

Description: Baseline eTariff Filing: Chevelon Butte RE LLC MBR Tariff to be effective 1/27/2023.

Filed Date: 1/26/23.

Accession Number: 20230126-5039.

Comment Date: 5 p.m. ET 2/16/23.

Docket Numbers: ER23-938-000.

Applicants: Southwest Power Pool, Inc.

Description: § 205(d) Rate Filing: 3334R2 Associated Electric Cooperative NITSA and NOA to be effective 4/1/2023.

Filed Date: 1/26/23.

Accession Number: 20230126-5043.

Comment Date: 5 p.m. ET 2/16/23.

Docket Numbers: ER23-939-000.

Applicants: West Penn Power Company, PJM Interconnection, L.L.C.

Description: § 205(d) Rate Filing: West Penn Power Company submits tariff filing per 35.13(a)(2)(iii: WPP submits Borderline Service Agreement, SA No. 6623 with Penn Power to be effective 3/29/2023.

Filed Date: 1/26/23.

Accession Number: 20230126-5057.

Comment Date: 5 p.m. ET 2/16/23.

Docket Numbers: ER23-940-000.

Applicants: PJM Interconnection, L.L.C.

Description: § 205(d) Rate Filing: Amendment to WMPA, Service Agreement No. 5294; Queue No. AC2-120 to be effective 12/31/9998.

Filed Date: 1/26/23.

Accession Number: 20230126-5065.

Comment Date: 5 p.m. ET 2/16/23.

Docket Numbers: ER23-941-000.

Applicants: California Independent System Operator Corporation.

Description: § 205(d) Rate Filing: 2023-01-26 Interconnection Process Enhancements—Phase 2 to be effective 3/28/2023.

Filed Date: 1/26/23.

Accession Number: 20230126-5075.

Comment Date: 5 p.m. ET 2/16/23.

Docket Numbers: ER23-942-000.

Applicants: Pacific Gas and Electric Company.

Description: § 205(d) Rate Filing: Section 205 filing to add NP&S to WDT3 Model to be effective 3/28/2023.

Filed Date: 1/26/23.

Accession Number: 20230126-5076.

Comment Date: 5 p.m. ET 2/16/23.

Docket Numbers: ER23-943-000.

Applicants: Pacific Gas and Electric Company.

Description: Tariff Amendment: Termination of Malaga Power, LLC (TO SA 57) to be effective 1/3/2023.

Filed Date: 1/26/23.

Accession Number: 20230126-5085.

Comment Date: 5 p.m. ET 2/16/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 26, 2023.
Debbie-Anne A. Reese,
Deputy Secretary.

[FR Doc. 2023-02086 Filed 1-31-23; 8:45 am]

BILLING CODE 6717-01-P